NUCLEAR REGULATORY COMMISSION

[NRC-2020-0227]

Operator Licensing Examination Standards for Power Reactors

AGENCY: Nuclear Regulatory Commission.

ACTION: NUREG; issuance.

SUMMARY: The U.S. Nuclear Regulatory Commission (NRC) is issuing NUREG-1021, Revision 12, “Operator Licensing Examination Standards for Power Reactors.”

DATES: NUREG-1021, Revision 12 is available on September 17, 2021 and will be applicable to operator licensing examinations that are administered 6 months after this date. Power reactor facility licensees that elect to prepare, proctor, and grade written examinations and/or prepare operating tests with administration dates 6 months or more after the date of this notice, must do so based on the guidance in NUREG-1021, Revision 12.

ADDRESSES: Please refer to Docket ID NRC-2020-0227 when contacting the NRC about the availability of information regarding this document. You may obtain publicly available information related to this document using any of the following methods:

• Federal Rulemaking Website: Go to https://www.regulations.gov and search for Docket ID NRC-2020-0227. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. NUREG-1021, Revision 12 is available in ADAMS under Accession No. ML21256A276.

• Attention: The PDR, where you may examine and purchase copies of public documents, is currently closed. You may submit your request to the PDR by email to pdr.resource@nrc.gov or call 1-800-397-4209 or 302-415-4737, between 8:00 a.m. and 4:00 p.m. (ET), Monday through Friday, except Federal holidays.

FOR FURTHER INFORMATION CONTACT: Maurin Scheetz, Office of Nuclear Reactor Regulation, U.S. Nuclear Regulatory Commission, Washington, DC 20555-0001; telephone: 301-415-2758, email: Maurin.Scheetz@nrc.gov.

SUPPLEMENTARY INFORMATION:

I. Discussion

NUREG-1021, Revision 12, “Operator Licensing Examination Standards for Power Reactors,” provides policies, procedures, and guidance for the development, administration, and grading of examinations used for licensing operators at nuclear power reactor facilities under the Commission's regulations in part 55 of title 10 of the Code of Federal Regulations (CFR), “Operators' Licenses.” This NUREG also provides guidance for maintaining operators' licenses and for the NRC to conduct requalification examinations when necessary. The NRC is issuing Revision 12 of this NUREG to (1) streamline information into topic-based sections for ease of use, (2) clarify instructions for the identification and grading of performance deficiencies on the operating test, (3) revise instructions for the selection of critical tasks and the assessment of critical and significant performance deficiencies, and (4) implement changes to support the testing of fundamentals topics on the site-specific initial licensing examination instead of in a separate generic fundamentals examination.

II. Additional Information

Revision 12 of NUREG-1021 replaces Revision 11 of NUREG-1021. Draft NUREG-1021, Revision 12, was published in the Federal Register for public comment on December 1, 2020 (85 FR 77280) with a 75-day comment period. The NRC received 124 public comments from private citizens and industry organizations. The NRC staff's evaluation and resolution of the public comments are documented in ADAMS under Accession No. ML21211A578.

III. Congressional Review Act

NUREG-1021, Revision 12, is a rule as defined in the Congressional Review Act (5 U.S.C. 801-808). However, the Office of Management and Budget has not found it to be a major rule as defined in the Congressional Review Act.

Dated: September 14, 2021.
For the Nuclear Regulatory Commission.
Christian B. Cowdrey,
Chief, Operator Licensing and Human Factors Branch, Division of Reactor Oversight, Office of Nuclear Reactor Regulation.

[FR Doc. 2021-20171 Filed 9-16-21; 8:45 am]

BILLING CODE 7590-01-P